DEPARTMENT OF HEALTH AND HUMAN SERVICES

National Institutes of Health

National Cancer Institute; Amended Notice of Meeting

Notice hereby given of a change in the meeting of the Subcommittee G—Education, June 26, 2007, 8 a.m. to June 27, 2007, 5 p.m., Gaithersburg Marriott Washingtonian Center, 204 Boardwalk Place, Gaithersburg, MD 20878 which was published in the Federal Register on April 16, 2007, 72FR19006.

The meeting has been rescheduled to a one day meeting that will occur on June 26, 2007. The meeting is closed to the public.

Dated: April 23, 2007.
Jennifer Spaeth,
Director, Office of Federal Advisory Committee Policy.

[FR Doc. 07-2131 Filed 4-30-07; 8:45 am]

BILLING CODE 4140-01-M